Proclamation 10991 of November 10, 2025

Veterans Day, 2025

By the President of the United States of America

A Proclamation

The story of America is written with the courage, honor, and dedicated service of our veterans. Through their sacrifice, the fires of freedom burn brightly, our Republic secured, and our way of life made possible. For nearly 250 years, their unyielding spirit has carried our Nation through every trial and triumph, ensuring that liberty endures for all time. This Veterans Day, we show our gratitude and recommit to honor their service, uphold their legacy, and give every veteran the loyalty, respect, and support they have earned and so dearly deserve.

From the moment our Nation's Founders raised the cause of independence, they recognized that freedom rests upon those willing to defend it. During the midst of the American Revolution, the Continental Congress enacted the first national veterans' benefits law to care for wounded and disabled veterans. From that early act of foresight came a fundamental promise: a Nation devoted to liberty owes a debt to those who secured freedom for our people. Yet for too many decades, politicians have failed to provide the benefits earned by the best among us, leading to shameful outcomes on veteran healthcare, housing, and employment. Under my leadership, the Federal Government will no longer betray these heroes.

During my first term, my Administration achieved historic reforms to the Department of Veterans Affairs (VA) and expanded choice in healthcare and economic opportunity for our veterans. I signed into law landmark legislation to increase accountability, remove those who failed our veterans, and deliver faster, high-quality care. Now, we are building off these successes by continuing to improve the VA. We have opened 16 new veteran health clinics throughout the country, made it easier for veterans to pass on their benefits to their survivors, and ended DEI and transgender policies so we can use taxpayer dollars on programs that help veterans in need. Just this year, we have already reduced the backlog of veterans waiting for VA benefits by more than 37 percent, after rising 24 percent during the previous administration—and we are just getting started.

In May, I signed an Executive Order to build the National Center for Warrior Independence, which will house up to 6,000 homeless veterans by 2028. I also signed into law the One Big Beautiful Bill, making the 2017 Trump Tax Cut permanent and ending taxes on Social Security for most seniors, relieving some of the financial burden for veterans on fixed incomes. Through these reforms and actions, we are renewing our Nation's commitment to all those who served.

Our Nation remains great because of those who have served honorably in uniform and committed their lives to defending our families, our freedom, and American values. Today, we extend our deepest gratitude to our Soldiers, Sailors, Marines, Airmen, Coast Guardsmen, and Guardians for their sacrifice, and we thank the families who share the burden of their service. Under my leadership, our Nation will always uphold the legacy of our veterans by keeping America strong, proud, and free—and as President, I will always have their backs.

In respectful recognition of the contributions our service members have made to advance peace and freedom around the world, the Congress has provided (5 U.S.C. 6103(a)) that November 11 of each year shall be set aside as a legal public holiday to honor our Nation's veterans.

NOW, THEREFORE, I, DONALD J. TRUMP, President of the United States of America, do hereby proclaim November 11, 2025, as Veterans Day. I encourage all Americans to reflect on the courage and sacrifice of our veterans through public ceremonies and private thoughts and prayers of gratitude. I call upon Federal, State, and local officials to display the flag of the United States and to participate in patriotic activities in their communities.

IN WITNESS WHEREOF, I have hereunto set my hand this tenth day of November, in the year of our Lord two thousand twenty-five, and of the Independence of the United States of America the two hundred and fiftieth.

[FR Doc. 2025-19995

Filed 11-13-25; 2:00 pm]

Billing code 3395-F4-P